DEPARTMENT OF ENERGY

Environmental Management Site-Specific Advisory Board, Idaho

AGENCY: Department of Energy.

ACTION: Notice of Open Meeting.

SUMMARY: This notice announces a meeting of the Environmental Management Site-Specific Advisory Board (EM SSAB), Idaho National Engineering and Environmental Laboratory (INEEL). Federal Advisory Committee Act (Pub. L. No. 92-463, 86 Stat. 770) requires that public notice of these meetings be announced in the Federal Register.

DATES: Tuesday, September 19, 2000—8:00 a.m.-6:00 p.m.; Wednesday, September 20, 2000—8:00 a.m.-5:00 p.m.

ADDRESSES: Wort Hotel, 50 North Glenwood, Jackson, WY.

FOR FURTHER INFORMATION CONTACT: Ms. Wendy Lowe, INEEL CAB Facilitator, Jason Associates Corporation, 477 Shoup Avenue, Suite 205, Idaho Falls, ID 83402, (208-522-1662) or visit the Board's Internet homepage at http://www.ida.net/users/cab.

SUPPLEMENTARY INFORMATION: Purpose of the Board: The purpose of the Board is to make recommendations to DOE and its regulators in the areas of future use, cleanup levels, waste disposition and cleanup priorities at the INEEL.

Tentative Agenda

(Agenda topics may change up to the day of the meeting; please contact Jason Associates for the most current agenda or visit the CAB's Internet site at www.ida.net/users/cab/):

Presentations on the following:

• Closure Plan for High-Level Waste Tanks 182 and 183

• DOE's plans for long-term monitoring of sites after cleanup has been completed

• Environmental monitoring at the INEEL

Briefings on the following:

• Status of the Blue Ribbon Panel

• Status of the Advanced Mixed Waste Treatment Project

• State of Idaho's permit review process for the incinerator at the Waste Experimental Reduction Facility

• Closure Plan for the incinerator at the Waste Experimental Reduction Facility

• Final Environmental Impact Statement for Electro metallurgical Treatment of Sodium-Bonded Spent Nuclear Fuel

• The INEEL Technical Library

Presentation and Recommendation Finalization of the following:

• Long-Term Stewardship Study

• Proposed Plan for Groundwater Remediation at Test Area North

• Draft Programmatic Environmental Impact Statement for Accomplishing Expanded Civilian Nuclear Energy Research and Development and Isotope Production Missions

Reports from CAB members who attended the following meetings:

• Site Specific Advisory Board Chairs meeting

• Transportation External Coordination Working Group meeting

• Blue Ribbon Panel meeting

Public Participation: This meeting is open to the public. Written statements may be filed with the Board facilitator either before or after the meeting. Individuals who wish to make oral presentations pertaining to agenda items should contact the Board Chair at the address or telephone number listed above. Requests must be received 5 days prior to the meeting and reasonable provision will be made to include the presentation in the agenda. The Deputy Designated Federal Officer, Jerry Bowman, Assistant Manager for Laboratory Development, Idaho Operations Office, U.S. Department of Energy, is empowered to conduct the meeting in a fashion that will facilitate the orderly conduct of business. Every individual wishing to make public comment will be provided equal time to present their comments.

Minutes: The minutes of this meeting will be available for public review and copying at the Freedom of Information Public Reading Room, 1E-190, Forrestal Building, 1000 Independence Avenue, SW, Washington, DC 20585 between 9:00 a.m. and 4:00 p.m., Monday-Friday, except Federal holidays. Minutes will also be available by writing to Stanely Hobson, INEEL CAB Chair, 477 Shoup Ave., Suite 205, Idaho Falls, Idaho 83402 or by calling the Board's facilitator at (208) 522-1662.

Issued at Washington, DC on August 23, 2000.
Rachel Samuel,
Deputy Advisory Committee Management Officer.

[FR Doc. 00-21931 Filed 8-25-00; 8:45 am]

BILLING CODE 6450-01-P